DEPARTMENT OF TRANSPORTATION

Federal Motor Carrier Safety Administration

[Docket No. FMCSA-2022-0223]

Agency Information Collection Activities; Renewal of a Currently Approved Collection Request: Unified Registration System, FMCSA Registration/Updates

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew the ICR titled “Unified Registration System, FMCSA Registration/Updates,” OMB Control No. 2126-0051. This ICR applies to new registrants seeking initial operating authority from FMCSA. New registrants seeking operating authority must use online Form MCSA-1, accessible via the Unified Registration System (URS).

DATES: Comments on this notice must be received on or before April 19, 2023.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Mr. Jeff Secrist, Office of Registration, Chief, Registration, Licensing, and Insurance Division, DOT, FMCSA, West Building 6th Floor, 1200 New Jersey Avenue SE, Washington, DC 20590-0001; 202-385-2367; jeff.secrist@dot.gov.

SUPPLEMENTARY INFORMATION: Title: Unified Registration System, FMCSA Registration/Updates.

OMB Control Number: 2126-0051.

Type of Request: Renewal of a currently approved ICR.

Respondents: Carrier compliance officer or equivalent from transportation entities subject to FMCSA's licensing, registration, and certification regulations.

Estimated Number of Respondents: 283,857 (94,619 annualized).

Estimated Time per Response: 1.34 hours.

Expiration Date: April 30, 2023.

Frequency of Response: One-time information collection.

Estimated Total Annual Burden: 380,368 (126,789 annualized).

Background

FMCSA registers for-hire motor carriers of regulated commodities and of passengers, under 49 U.S.C. 13902(a); surface freight forwarders, under 49 U.S.C. 13903; property brokers, under 49 U.S.C. 13904; and certain Mexico-domiciled motor carriers, under 49 U.S.C. 13902(c). These motor carriers may conduct transportation services in the United States only if they are registered with FMCSA. Each registration is effective from the date specified and remains in effect for such period as the Secretary of Transportation determines by regulations.

The final rule titled “Unified Registration System,” (78 FR 52608) dated August 23, 2013, implemented statutory provisions for an online registration system for entities that are subject to FMCSA's licensing, registration, and certification regulations. URS streamlines the registration process and serves as a clearinghouse and repository of information on motor carriers, brokers, freight forwarders, intermodal equipment providers, hazardous materials safety permit applicants, and cargo tank facilities required to register with FMCSA. When developing URS, FMCSA planned that the OP-1 series of forms (except for OP-1(MX)) would ultimately be folded into one overarching form (MCSA-1), which would be used by all motor carriers seeking authority.

FMCSA began a phased rollout of URS in 2015. The first phase, which became effective on December 12, 2015, impacts only first-time applicants seeking an FMCSA-issued registration. FMCSA had planned subsequent rollout phases for existing registrants; however, there have been substantial delays, and subsequent phases have not been rolled out to date.

On January 17, 2017, FMCSA issued a final rule titled “Unified Registration System; Suspension of Effectiveness,” which indefinitely suspended URS effectiveness dates for existing registrants only (82 FR 5292). Pursuant to this final rule, FMCSA is still accepting forms OP-1, OP-1(P), OP-1(FF), and OP-1(NNA) for existing registrants wishing to apply for additional authorities. Separately, FMCSA requires Form OP-1(MX) for Mexico-domiciled carriers that wish to operate beyond the U.S. municipalities on the U.S.-Mexico border and their commercial zones.

As described above, only first-time applicants seeking an FMCSA-issued registration must apply for authority via URS, using Form MCSA-1. Under URS, all forms described in the current ICR, except OP-1(MX), are folded into Form MCSA-1. Information collection activities associated with the OP-1 series of forms are covered under a different ICR, titled “Licensing Applications for Motor Carrier Operating Authority,” OMB Control No. 2126-0016.

Form MCSA-1 requests information to identify the applicant, the nature and scope of its proposed operations, safety-related details, and information regarding the drivers and vehicles it plans to use in U.S. operations. FMCSA and the States use registration information collected via Form MCSA-1 to track motor carriers, freight forwarders, brokers, and other entities they regulate. Registering motor carriers is essential to being able to identify carriers so that their safety performance can be tracked and evaluated. The data make it possible to link individual trucks to the responsible motor carrier, thus implementing the mandate under 49 U.S.C. 31136(a)(1); that is, ensuring that CMVs are maintained and operated safely. In general, registration information collected via Form MCSA-1 informs prioritization of the Agency's activities and aids in assessing and statistically analyzing the safety outcomes of those activities.

The current information collection supports the DOT Strategic Goal of Safety. It streamlines registration processes and ensures that FMCSA can more efficiently track motor carriers, freight forwarders, brokers, and other entities regulated by the Agency.

PUBLIC COMMENTS INVITED: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.

Thomas P. Keane,
Associate Administrator, Office of Research and Registration.

[FR Doc. 2023-05585 Filed 3-17-23; 8:45 am]

BILLING CODE 4910-EX-P